DEPARTMENT OF LABOR

Office of Labor-Management Standards

29 CFR Part 404

[Docket #]

RIN #1245-AA16

Minor Child Definition for Form LM-30 Labor Organization Officer and Employee Report

AGENCY: Office of Labor-Management Standards, Department of Labor.

ACTION: Proposed rule; request for comments.

SUMMARY: This proposed rule is soliciting public comments regarding revisions to the definition of “minor child” as that term appears in 29 CFR 404.1(h) and on the Form LM-30 Labor Organization Officer and Employee Report.

DATES: Comments must be received on or before July 31, 2025.

ADDRESSES: You may submit comments, identified by RIN 1245-AA16, by the following method:

Internet: Federal eRulemaking Portal. Electronic comments may be submitted through www.regulations.gov. To locate the proposed rule, use RIN 1245-AA16. Follow the instructions for submitting comments.

Only comments submitted through www.regulations.gov will be accepted. Comments will be available for public inspection at www.regulations.gov.

The Department will post all comments received on www.regulations.gov without making any change to the comments, including any personal information provided. The http://www.regulations.gov website is the Federal e-rulemaking portal and all comments posted there are available and accessible to the public. The Department cautions commenters not to include personal information such as Social Security numbers, personal addresses, telephone numbers, and email addresses in their comments as such submitted information will become viewable by the public via the www.regulations.gov website. It is the responsibility of the commenter to safeguard this information. Comments submitted through www.regulations.gov will not include the commenter's email address unless the commenter chooses to include that information as part of his or her comment.

FOR FURTHER INFORMATION CONTACT: Andrew Davis, Director of the Office of Program Operations, Office of Labor-Management Standards, U.S. Department of Labor, 200 Constitution Avenue NW, Room N-5609, Washington, DC 20210, by telephone at (202) 693-0123 (this is not a toll-free number), 711 (TTY/TDD), or by email at olms-public@dol.gov.

SUPPLEMENTARY INFORMATION:

I. Background

The Labor-Management Reporting and Disclosure Act of 1959 (LMRDA), 29 U.S.C. 401 et seq., mandates certain reporting and disclosure requirements for labor organizations, their officers and employees, employers, labor relations consultants, and surety companies. Every officer or employee of a labor organization who, or whose spouse or their “minor child,” directly or indirectly holds any interest or derives any income or benefit from an employer whose employees the labor organization represents, or from a business that deals with the labor organization or a business that deals in substantial part with a represented employer of the union, or has received certain payments from a labor relations consultant, is required to file an annual financial disclosure report with the Secretary of Labor. 29 U.S.C. 432. The Secretary of Labor has authority to prescribe the form of the financial disclosure reports required by the LMRDA. 29 U.S.C. 438.

The U.S. Department of Labor (Department), Office of Labor-Management Standards (OLMS) proposes to amend its regulations under the LMRDA, 29 CFR part 404, to revise the definition of “minor child” on the Form LM-30 Labor Organization Officer and Employee Report, which requires labor union officers and employees to report actual or potential conflicts of interest involving their own personal financial interests, as well as that of their spouse or “minor child,” and that of their labor organization. In 2007, OLMS issued a final rule defining “minor child” as a “son, daughter, stepson, or stepdaughter under 21 years of age.” 72 FR 36106 (July 2, 2007). OLMS reasoned that because the LMRDA is silent about the age at which a child reaches their majority, there needed to be a uniform, nationwide definition that Form LM-30 filers, union members, and the public can easily ascertain and 21 was sensible as the age of majority in most states at the time of the LMRDA passage. See generally 72 FR 36106. In light of the statutory silence on the age at which a child reaches majority, OLMS reasoned that age 21 was sensible because there needed to be a uniform, nationwide definition that Form LM-30 filers, union members, and the public could easily ascertain, and that 21 was already the age of majority in most states at the time of LMRDA passage. See Labor Organization Office and Employee Report, Form LM-30, 72 FR 36145 (July 2, 2007).

II. Discussion

The Department is proposing to amend its regulations to redefine “minor child” as a son, daughter, stepson, or stepdaughter under the age of 18. This change aligns with the age of majority now recognized in almost all United States jurisdictions, where individuals are generally considered legal adults at 18. A total of 47 states and Washington, DC, have set the law of majority at 18, leaving only Alabama and Nebraska at age 19, and Mississippi at age 21.¹ By adopting this widely accepted standard, OLMS seeks to reduce the reporting burden on filers, while preserving the integrity and purpose of the LMRDA's disclosure requirements.

¹ See age of majority | Wex | US Law | LII/Legal Information Institute.

The proposed amendment reflects the understanding that individuals aged 18 and older are considered capable of managing their own financial affairs and are legally responsible for their actions. In most areas of law, including voting, contracts, and military service, adulthood begins at age 18. Requiring disclosure of financial interests or transactions involving children or stepchildren aged 18 to 20 may impose unnecessary administrative burdens on filers without meaningfully advancing transparency or detection of conflicts of interest, as union officials do not have legal control over their children who reach the age of majority. The Department believes that limiting the definition of “minor child” to those under 18 maintains the effective requirement without unduly burdening filers with tracking the financial interests and transactions of other adult individuals. The Department therefore proposes to revise the definition of “minor child” in 29 CFR 404.1(h) to read: “Minor child means a son, daughter, stepson, or stepdaughter under 18 years of age.” The Department also proposes to revise the definition on page two of the Form LM-30 Instructions to read: “MINOR CHILD—means a son, daughter, stepson, or stepdaughter under 18 years of age.” Additionally, the Department proposes to make a technical correction on page 6 of the Form LM-30 Instructions in Item 7, NATURE AND AMOUNT OF INTEREST, TRANSACTION, BENEFIT, ARRANGEMENT, INCOME, OR LOAN, by deleting: “If you need additional space, see the “How to Provide Additional Information” section on page 3” . . . . “(for information on where to provide this explanation, see the “How to Provide Additional Information” section on page 3)” . . . . “(See the “How to Provide Additional Information” section on page 3.).” The instructions on page 6 no longer need this language, as page 3 does not contain any instructions on providing additional information, nor is such instruction needed to complete the form.

The Department invites public comment on this proposed rule, including general and specific comment on any aspect of the rule.

III. Procedural Issues and Regulatory Review

A. Review Under Executive Orders 12866

Executive Order (E.O.) 12866, “Regulatory Planning and Review,” 58 FR 51735 (Oct. 4, 1993), requires agencies, to the extent permitted by law, to (1) propose or adopt a regulation only upon a reasoned determination that its benefits justify its costs (recognizing that some benefits and costs are difficult to quantify); (2) tailor regulations to impose the least burden on society, consistent with obtaining regulatory objectives, taking into account, among other things, and to the extent practicable, the costs of cumulative regulations; (3) select, in choosing among alternative regulatory approaches, those approaches that maximize net benefits; (4) to the extent feasible, specify performance objectives, rather than specifying the behavior or manner of compliance that regulated entities must adopt; and (5) identify and assess available alternatives to direct regulation, including providing economic incentives to encourage the desired behavior, such as user fees or marketable permits, or providing information upon which choices can be made by the public.

Section 6(a) of E.O. 12866 also requires agencies to submit “significant regulatory actions” to OIRA for review. OIRA has determined that this proposed rule does not constitute a “significant regulatory action” under section 3(f) of E.O. 12866, as it reduces reporting and recordkeeping burden for filers and potential filers. Accordingly, this proposed rule was not submitted to OIRA for review under E.O. 12866.

B. Review Under the Regulatory Flexibility Act

The Regulatory Flexibility Act (5 U.S.C. 601 et seq.) requires preparation of an initial regulatory flexibility analysis (IRFA) and a final regulatory flexibility analysis (FRFA) for any rule that by law must be proposed for public comment, unless the agency certifies that the rule, if promulgated, will not have a significant economic impact on a substantial number of small entities.

The Department reviewed this proposed rule under the provisions of the Regulatory Flexibility Act. This rule proposes to eliminate burdensome regulations. Therefore, the Department initially concludes that the impacts of the proposed rule would not have a “significant economic impact on a substantial number of small entities,” E.O. 13272, “Proper Consideration of Small Entities in Agency Rulemaking,” 67 FR 53461 (Aug. 16, 2002), and that the preparation of an IRFA is not warranted. The Department will transmit this certification and supporting statement of factual basis to the Chief Counsel for Advocacy of the Small Business Administration for review under 5 U.S.C. 605(b).

C. Review Under the Paperwork Reduction Act

This proposed rule imposes no new information or recordkeeping requirements, and the Department does not expect any changes to the number of respondents or reporting or recordkeeping hours. Accordingly, the Department does not propose any changes to its burden estimates for Information Collection Request (ICR) 1245-0003, which contains the Form LM-30 and other LMRDA forms. However, since the Department proposes to update the Form LM-30 Instructions, the Department will submit an ICR revision package to the Office of Management and Budget (OMB) for approval pursuant to the Paperwork Reduction Act (44 U.S.C. 3501 et seq.) and 5 CFR 1320.12.

D. Review Under Executive Order 13132

E.O. 13132, “Federalism,” 64 FR 43255 (August 10, 1999), imposes certain requirements on Federal agencies formulating and implementing policies or regulations that preempt State law or that have federalism implications. The Executive order requires agencies to examine the constitutional and statutory authority supporting any action that would limit the policymaking discretion of the States and to carefully assess the necessity for such actions. The Executive order also requires agencies to have an accountable process to ensure meaningful and timely input by State and local officials in the development of regulatory policies that have federalism implications.

The Department has examined this proposed rule and has determined that it would not have a substantial direct effect on the States, on the relationship between the national government and the States, or on the distribution of power and responsibilities among the various levels of government.

E. Review Under Executive Order 12988

With respect to the review of existing regulations and the promulgation of new regulations, section 3(a) of E.O. 12988, “Civil Justice Reform,” imposes on Federal agencies the general duty to adhere to the following requirements: (1) eliminate drafting errors and ambiguity, (2) write regulations to minimize litigation, (3) provide a clear legal standard for affected conduct rather than a general standard, and (4) promote simplification and burden reduction. 61 FR 4729 (Feb. 7, 1996). Regarding the review required by section 3(a), section 3(b) of E.O. 12988 specifically requires that Executive agencies make every reasonable effort to ensure that the regulation: (1) clearly specifies the preemptive effect, if any, (2) clearly specifies any effect on existing Federal law or regulation, (3) provides a clear legal standard for affected conduct while promoting simplification and burden reduction, (4) specifies the retroactive effect, if any, (5) adequately defines key terms, and (6) addresses other important issues affecting clarity and general draftsmanship under any guidelines issued by the Attorney General.

Section 3(c) of E.O. 12988 requires Executive agencies to review regulations in light of applicable standards in section 3(a) and section 3(b) to determine whether they are met or it is unreasonable to meet one or more of them. The Department has completed the required review and determined that, to the extent permitted by law, this proposed rule meets the relevant standards of E.O. 12988.

F. Review Under the Unfunded Mandates Reform Act

Title II of the Unfunded Mandates Reform Act of 1995 (UMRA) requires each Federal agency to assess the effects of Federal regulatory actions on State, local, and Tribal governments and the private sector. Public Law 104-4, sec. 201 (codified at 2 U.S.C. 1531). For a regulatory action likely to result in a rule that may cause the expenditure by State, local, and Tribal governments, in the aggregate, or by the private sector of $100 million or more in any one year (adjusted annually for inflation), section 202 of UMRA requires a Federal agency to publish a written statement that estimates the resulting costs, benefits, and other effects on the national economy. 2 U.S.C. 1532(a), (b)). The UMRA also requires a Federal agency to develop an effective process to permit timely input by elected officers of State, local, and Tribal governments on a “significant Federal intergovernmental mandate,” and requires an agency plan for giving notice and opportunity for timely input to potentially affected small governments before establishing any requirements that might significantly or uniquely affect them. 2 U.S.C. 1534(a).

The Department examined this proposed rule according to UMRA and its statement of policy and determined that the proposed rule does not contain a Federal intergovernmental mandate, nor is it expected to require expenditures of $100 million or more in any one year by State, local, and Tribal governments, in the aggregate, or by the private sector. As a result, the analytical requirements of UMRA do not apply.

G. Review Under the Treasury and General Government Appropriations Act, 1999

Section 654 of the Treasury and General Government Appropriations Act, 1999 (Pub. L. 105-277) requires Federal agencies to issue a Family Policymaking Assessment for any rule that may affect family well-being. This proposed rule would not have any impact on the autonomy or integrity of the family as an institution. Accordingly, the Department has concluded that it is not necessary to prepare a Family Policymaking Assessment.

H. Review Under Executive Order 12630

Pursuant to E.O. 12630, “Governmental Actions and Interference with Constitutionally Protected Property Rights,” 53 FR 8859 (March 18, 1988), the Department has determined that this proposed rule would not result in any takings that might require compensation under the Fifth Amendment to the U.S. Constitution.

I. Review Under the Treasury and General Government Appropriations Act, 2001

Section 515 of the Treasury and General Government Appropriations Act, 2001 (44 U.S.C. 3516, note) provides for Federal agencies to review most disseminations of information to the public under information quality guidelines established by each agency pursuant to general guidelines issued by OMB. OMB's guidelines were published at 67 FR 8452 (Feb. 22, 2002). The Department has reviewed this proposed rule under the OMB guidance and has concluded that it is consistent with applicable policies in those guidelines.

J. Review Under Additional Executive Orders and Presidential Memoranda

The Department has examined this proposed rule and has determined that it is consistent with the policies and directives outlined in E.O. 14154, “Unleashing American Energy,” 90 FR 8353 (Jan. 29, 2025); E.O. 14192, “Unleashing Prosperity Through Deregulation,” 90 FR 9065 (Feb. 6, 2025); and Presidential Memorandum, “Delivering Emergency Price Relief for American Families and Defeating the Cost-of-Living Crisis,” 90 FR 8245 (Jan. 28, 2025). This proposed rule is expected to be an Executive Order 14192 deregulatory action.

K. Signature

Signed in Washington, DC, this June 18, 2025.
Elisabeth Messenger,
Director, OLMS.

List of Subjects in 29 CFR Part 404

Labor organization officers and employees, Reporting and recordkeeping requirements.

For the reasons set forth in the preamble, the Department proposes to amend part 404 of chapter IV of title 29 of the Code of Federal Regulations, as set forth below:

PART 404—TITLE IV—LABOR ORGANIZATION OFFICER and EMPLOYEE REPORTS

1. The authority citation for part 404 continues to read as follows:

Authority: Labor-Management Reporting and Disclosure Act of 1959, as amended, Public Law 86-257, 73 Stat. 519-546, codified at 29 U.S.C. 401-531.

2. Edit § 404.1(h) to read: “Minor child means a son, daughter, stepson, or stepdaughter under 18 years of age.”

[FR Doc. 2025-11849 Filed 6-30-25; 8:45 am]

BILLING CODE P